DEPARTMENT OF COMMERCE

International Trade Administration

[A-570-174]

Certain Brake Drums From People's Republic of China: Final Affirmative Determination of Sales at Less Than Fair Value; Correction

AGENCY: Enforcement and Compliance, International Trade Administration, Department of Commerce.

ACTION: Notice; correction.

SUMMARY: The U.S. Department of Commerce (Commerce) published notice in the Federal Register of June 18, 2025, in which Commerce published the final determination of sales at less than fair value (LTFV) investigation of certain brake drums from the People's Republic of China (China). This notice corrects the scope of the investigation included in Appendix I of that Federal Register notice, which incorrectly did not reflect changes that Commerce made to the preliminary scope of the investigation.

FOR FURTHER INFORMATION CONTACT: Samuel Frost, AD/CVD Operations, Office V, Enforcement and Compliance, International Trade Administration, U.S. Department of Commerce, 1401 Constitution Avenue NW, Washington, DC 20230; telephone: (202) 482-8180.

SUPPLEMENTARY INFORMATION:

Background

On June 18, 2025, Commerce published in the Federal Register the Final Determination in the LTFV investigation of certain brake drums from China.¹ We incorrectly did not update the scope of the investigation included in Appendix I of the Final Determination to reflect changes that Commerce made to the preliminary scope of the investigation.²

¹ See Certain Brake Drums from People's Republic of China: Final Affirmative Determination of Sales at Less Than Fair Value, 90 FR 26011 (June 18, 2025) (Final Determination).

² See Memorandum, “Antidumping Duty and Countervailing Duty Investigations of Certain Brake Drums from the People's Republic of China and the Republic of Türkiye: Final Scope Decision Memorandum,” dated June 13, 2025.

Correction

In the Federal Register of June 18, 2025, in FR Doc 2025-11228, on page 26013, in Appendix I, “Scope of the Investigation,” correct the scope of the investigation so that it reads:

The merchandise covered by this investigation is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of this investigation if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by this investigation is classifiable under Harmonized Tariff Schedule of the United States (HTSUS) subheading 8708.30.5020. The merchandise covered by this investigation may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by this investigation is dispositive.

Notification to Interested Parties

This notice is issued and published in accordance with sections 705(a)(1) of the Tariff Act of 1930, as amended, and 19 CFR 351.210(b)(1).

Dated: June 30, 2025.
Christopher Abbott,
Deputy Assistant Secretary for Policy and Negotiations, performing the non-exclusive functions and duties of the Assistant Secretary for Enforcement and Compliance.

[FR Doc. 2025-12477 Filed 7-2-25; 8:45 am]

BILLING CODE 3510-DS-P